DEPARTMENT OF AGRICULTURE

Submission for OMB Review; Comment Request; Reinstatement

The Department of Agriculture has submitted the following information collection requirement(s) to OMB for review and reinstatement under the Paperwork Reduction Act of 1995, Public Law 104-13. Comments are requested regarding: whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques and other forms of information technology.

Comments regarding this information collection received by October 28, 2024 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Rural Business-Cooperative Service

Title: Rural Micro-Entrepreneur Assistance Program.

OMB Control Number: 0570-0062.

Summary of Collection: The Rural Microentrepreneur Assistance Program (RMAP), authorized under section 6022 of the Food, Conservation, and Energy Act of 2008 (2008 Farm Bill), which amends section subtitle D of the Consolidated Farm and Rural Development Act of 2008 (CON Act) provides rural microentrepreneurs with the skills necessary to establish new rural microenterprises, to provide continuing technical and financial assistance related to the successful operation of rural microenterprises, and to assist with the cost of providing other activities and services related to the successful operation of rural microenterprise development organizations (MDOs) and rural microenterprises. The Secretary makes direct loans to MDOs (MDOs that are participating in the program are referred to as “microlenders”) for the purpose of capitalizing microloan revolving funds to provide fixed interest rate business loans of $50,000 or less to microentrepreneurs, as defined in the 2008 Farm Bill.

Need and Use of the Information: Microlenders seeking loans and/or grants will have to submit applications that include specified information, certifications, and agreements to the Agency. This information will be used to determine applicant eligibility and to ensure that funds are used for authorized purposes. Applications for continued participation in RMAP, during years 2 and 3, will include primarily any needed updates to the information submitted with the initial application.

Description of Respondents: Business or other for-profit; Not-for-profit Institutions; State, Local or Tribal governments.

Number of Respondents: 40.

Frequency of Responses: Reporting: Quarterly, Annually.

Total Burden Hours: 1,907.

Levi S. Harrell,
Departmental Information Collection Clearance Officer.

[FR Doc. 2024-22071 Filed 9-25-24; 8:45 am]

BILLING CODE 3410-XY-P